NUCLEAR REGULATORY COMMISSION

Documents Containing Reporting of Recordkeeping Requirements: Office of Management and Budget (OMB) Review

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed rule, “Interim Storage for Greater Than Class C Waste” which would amend 10 CFR part 72, Licensing Requirements for the Independent Storage of Spent Nuclear Fuel and High-Level Radioactive Waste.

3. The form number if applicable: Not applicable.

4. How often the collection is required: Applications for new licenses and amendments may be submitted at any time. Applications for renewal of licenses would be required every 20 years for an Independent Spent Fuel Storage Installation (ISFSI) and every 40 years for a Monitored Retrievable Storage (MRS) facility. Required recordkeeping would be conducted on a continuing basis.

5. Who will be required or asked to report: Licensees and applicants for a license to possess power reactor-related waste classified for disposal under 10 CFR part 61 as greater than class C (GTCC) in an ISFSI, and the Department of Energy for licenses to receive, transfer, package and possess power reactor-related GTCC waste storage in an MRS.

6. An estimate of the number of responses: 3.

7. The estimated number of annual respondents: 1.

8. An estimate of the total number of hours needed annually to complete the requirement or request: 120 (an average of approximately 115 hours per response for applications plus approximately 5 hours per recordkeeper).

9. An indication of whether section 3507(d), Pub. L. 104-13 applies: Not applicable.

10. Abstract: 10 CFR part 72 establishes requirements, procedures, and criteria for the issuance of licenses to receive, transfer, and possess power reactor spent fuel and other radioactive materials associated with spent fuel storage in an ISFSI, and requirements for the issuance of licenses to the Department of Energy to receive, transfer, package, and possess power reactor spent fuel and high-level radioactive waste, and other associated radioactive materials, in an MRS. This proposed rulemaking would add the ability for licensees to request a specific license to allow the interim storage of reactor-related GTCC waste within an ISFSI or MRS to 10 CFR part 72. GTCC waste is low-level radioactive waste that exceeds the concentration limits of radionuclides established for Class C waste in 10 CFR 61.55. The information will be used by the NRC staff in the licensing process to review applications requesting storage of GTCC waste within an ISFSI or MRS. This rulemaking does not preclude licensees from licensing the storage of GTCC waste under the existing provisions of 10 CFR parts 30 and/or 70. However, the NRC believes that licensing under 10 CFR part 72 would simplify the licensing process and reduce the potential burden on licensees, the NRC, and Agreement States with no adverse affect on public health and safety, or the environment. The revised estimate of burden reflects the time necessary for licensees to amend application request for storage of spent fuel under 10 CFR part 72 to also include GTCC waste.

Submit, by July 17, 2000, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, 2120 L Street, NW (lower level), Washington, DC. The proposed rule indicated in “The title of the information collection” is or has been published in the Federal Register within several days of the publication date of this Federal Register Notice. Instructions for accessing the electronic OMB clearance package for the rulemaking have been appended to the electronic rulemaking. Members of the public may access the electronic OMB clearance package by following the directions for electronic access provided in the preamble to the titled rulemaking.

Comments and questions should be directed to the OMB reviewer by July 17, 2000: Erik Godwin, Office of Information and Regulatory Affairs (3150-0132), NEOB-10202, Office of Management and Budget, Washington, DC 20503.

Comments can also be submitted by telephone at (202) 395-3087.

The NRC Clearance Officer is Brenda Jo. Shelton, 301-415-7233.

Dated at Rockville, Maryland, this 1st day of June 2000.
For the Nuclear Regulatory Commission.
Brenda Jo. Shelton,
NRC Clearance Officer, Office of the Chief Information Officer.

[FR Doc. 00-15193 Filed 6-14-00; 8:45 am]

BILLING CODE 7590-01-P